DEPARTMENT OF THE INTERIOR

Fish and Wildlife Service

Notice of Availability of Draft Comprehensive Conservation Plan and Environmental Assessment for the Alamosa and Monte Vista National Wildlife Refuge Complex, Alamosa, CO

AGENCY: Fish and Wildlife Service, Interior.

ACTION: Notice of availability.

SUMMARY: The U.S. Fish and Wildlife Service announces that a Draft Comprehensive Conservation Plan and Environmental Assessment (CCP/EA) for the Alamosa and Monte Vista National Wildlife Refuge Complex is available for review and comment. This CCP/EA, prepared pursuant to the National Wildlife Refuge System Improvement Act of 1997 and the National Environmental Policy Act of 1969, describes how the U.S. Fish and Wildlife Service intends to manage the Complex for the next 15 years. Also available is a Spanish version Summary of the Draft Comprehensive Conservation Plan and Environmental Assessment.

DATES: Please submit comments on the Draft CCP/EA on or before April 28, 2003.

ADDRESSES: Comments on the Draft CCP/EA should be addressed to: Adam Misztal, Planning Team Leader, U.S. Fish and Wildlife Service, P.O. Box 25486, Denver Federal Center, Denver, CO 80225-0486. Comments may also be submitted via electronic mail to: adam_misztal@fws.gov.

FOR FURTHER INFORMATION CONTACT: Adam Misztal, Planning Team Leader, U.S. Fish and Wildlife Service, P.O. Box 25486, Denver Federal Center, Denver, CO 80225-0486; (303) 236-8145 ext. 607; fax (303) 236-4792 or Mike Blenden, Complex Manager, Alamosa/Monte Vista National Wildlife Refuge Complex, U.S. Fish and Wildlife Service Admin. Building, 9383 El Rancho Lane, Alamosa, CO 81101; (719) 589-4021; fax (719) 587-0595.

SUPPLEMENTARY INFORMATION: Availability of Documents: Copies of the Draft CCP/EA or Spanish version Summary may be obtained by writing to: Adam Misztal, Planning Team Leader, U.S. Fish and Wildlife Service, P.O. Box 25486, Denver Federal Center, Denver, CO 80225-0486. The Draft CCP/EA will also be available for viewing and downloading online at http://mountain-prairie.fws.gov/planning/.

Background: Alamosa and Monte Vista National Wildlife Refuges were established under the authority of the Migratory Bird Conservation Act “* * * for use as inviolate sanctuaries, or for any other management purpose, for migratory birds.” The purpose for managing habitats on the Alamosa and Monte Vista National Wildlife Refuge (the Complex) is to provide a biologically diverse area that complements the San Luis Valley (SLV) ecosystem.

Ten different plant communities/habitat types exist on the Complex: upland shrub, tall-emergent, short-emergent, saltgrass, short grass, shallow seasonal wetland, semipermanent wetland, riparian, riverine, and agriculture. These habitats support a variety of mammals, reptiles, amphibians, and birds. Mammals include coyote, red fox, black bear, mountain lion, bobcat, elk, mule deer, pronghorn, raccoon, mink, American badger, and other small mammals. Birds commonly seen on these Refuges include numerous waterfowl species, including 10 that nest on the Complex: mallard, gadwall, cinnamon, green-winged and blue-winged teal, northern pintail, northern shoveler, American wigeon, redheads, and ruddy ducks, and one species of goose (Canada). The Monte Vista NWR (MVNWR) has one of the highest densities of nesting waterfowl in the continent (Gilbert et al. 1996). On average, 15,000 ducks are produced on MVNWR annually, which constitutes a major contribution to the State's population and, subsequently, to the Central Flyway's duck population.

Other birds using the Complex include great blue heron, little blue heron, snowy and cattle egret, sandhill crane, northern harrier, Swainson's hawk, ring-necked pheasant, Ross' goose, black-bellied plover, greater yellowlegs, willet, and Wilson's phalarope. Two endangered species, the whooping crane and southwestern willow flycatcher, and one threatened species, the bald eagle, utilize the Complex. In addition, five species of management concern to the U.S. Fish and Wildlife Service's National Migratory Bird Office also use the Complex: American bittern, black tern, burrowing owl, ferruginous hawk, and white-faced ibis.

The Draft CCP/EA identifies and evaluates two alternatives for managing the Alamosa and Monte Vista National Wildlife Refuges in the San Luis Valley of southwestern Colorado. The alternatives are compared by describing how the habitat management tools, water management, rest, prescribed burning, prescribed grazing, farming, and habitat protection would be used under each alternative. Also described under each alternative are the management of public use, cultural resources, and elk.

Under the No Action (Current management) Alternative the Refuges would continue to be managed as it has been in the recent past:

Water Management: The Complex would continue to use its irrigation systems much like the private landowners who preceded it to produce wet meadow habitat to support wetland-dependent wildlife species. Also water management, on certain portions of the Refuges, would accommodate various situations; for example, to meet the needs of certain species, compliance with State water law, control of noxious weeds, maintenance of water control infrastructure, and specific experiments to alter vegetation.

Rest: Availability of dense stands of wetland vegetation during the early spring months is an important component of waterbird production on both Refuges. Successful production of waterbirds is primarily reliant upon stands of vegetation largely excluded from harvest. Because of this, both Refuges are important islands of nesting cover within the Valley and the Flyway. Stands of dense vegetation are achieved through careful water manipulation and rest from management practices that result in defoliation, such as grazing, fire, herbicide, and mowing. Although the use of rest has tremendous benefits for a wide variety of birds, it is not feasible nor desirable to maintain all of the Complex's wetlands in a constant densely vegetated state.

Prescribed Burning: Burning is primarily used to set back plant succession in wetlands and uplands and to provide a mosaic of vegetation composition and structure for wildlife species with a wide array of nesting and feeding requirements. Habitats are periodically burned to remove excessive litter buildup, stimulate vegetation growth, enhance nutrient cycling, increase soil temperatures, and control weeds. Prescribed burning is also used in some cases to reduce extremely dense or weedy vegetation so that other management tools can be used in that area.

Prescribed Grazing: From 1996 until present, cattle grazing has only occurred on the Complex to meet the needs of research. Grazing occurs during the growing season and animals are moved every 1 to 6 days to a new site. A grazed site is then rested from 25 to 35 days before it is grazed again. Sites may be grazed two to three times during May 15 to September 1.

Farming: The farming program on the Monte Vista NWR is primarily used to provide high energy food for migrating cranes and waterfowl. However, the food and cover provided by farm fields also benefit resident wildlife such as deer, rodents and pheasants. No farming is conducted at Alamosa NWR due to a lack of suitable soils.

Habitat Protection: Acquisition of four inholdings would continue to be pursued as opportunities arise. Easements and fee-title acquisitions would continue to be acquired to prevent uses that degrade wildlife habitat and buffer critical habitats on the Refuge. These efforts would continue as opportunities arise and be concentrated on lands within one-half mile of the current boundaries of the Refuges in order to protect them from the adverse impacts of housing development.

Currently, the U.S. Fish and Wildlife Service is an active partner in the Colorado Wetlands Initiative. It is a large Statewide partnership with the goal of protecting, restoring, and enhancing wetland habitat. This initiative is a voluntary approach to wetland conservation. It is aimed at conserving all biologically significant wetlands of Colorado and associated wildlife including birds, mammals, reptiles, and amphibians.

The Complex staff would continue to assist private landowners to create, protect, and enhance wetlands throughout the SLV through the Partners for Fish and Wildlife Program (PFW). Partnerships would continue to be developed with entities such as the Colorado Division of Wildlife and Ducks Unlimited to supplement Service funding of the program.

Public Use: Public access to the Refuges is provided and would continue. Monte Vista NWR has a larger network of roads open to the public, including several county roads which bisect the Refuge, and a 2.5-mile auto tour route. Alamosa NWR is a larger contiguous land base with fewer public accessible roadways, having only a 3-mile auto tour route and a spur off a county road to the Hansen Bluff overlook. Both auto tour routes are near areas regularly used by waterbirds and other wildlife. Two hiking trails also exist on the Alamosa Refuge; a 2-mile (one way) trail along the Rio Grande and a 1-mile walk along wetland edges near the Bluff Overlook. Visitor numbers are directly related to wildlife activities such as courtship behaviors, crane staging, etc. Uses that are not wildlife-dependent are discouraged or even prohibited.

Hunting: Waterfowl and small game hunting would continue to be supported and encouraged. Camping areas for hunters would be provided. Hunter numbers are not regulated except during the first split of the waterfowl season.

Due to safety concerns, public elk hunting opportunities are managed. An elk hunt coordinator, under contract with the Colorado Division Of Wildlife (CDOW), accompanies the hunter to ensure safety. The hunter is selected from a public list maintained by CDOW. All applicants, for this hunt, must demonstrate a high degree of firearm proficiency and must be available on 24 hours notice.

Fishing: The shallow water in Refuge wetlands does not support a viable fishery. Wetlands either dry up or freeze solid annually which eliminates all fish that have entered the system. Therefore, fishing is not allowed on the Refuges. Creation and management of a viable fishery on the portions of the Rio Grande flowing through the Alamosa NWR will not be pursued for a variety of reasons. The major limiting factor is the inability of this stretch of river to support native fish species due to its ephemeral flows; it is often extremely low to dry during summer months.

Wildlife Observation: The Refuge staff is an active participant in the Monte Vista Crane Festival; providing technical support, as well as providing viewing areas, conducting special tours and assisting in setting a direction for the Festival. The Crane Festival is the largest wildlife related public event in Colorado (estimated 10,000 visitors in 1999).

Wildlife Photography: Photography would continue to be allowed, with no additional Refuge support provided to photographers.

Interpretation: A visitor contact station is part of the Complex's main office at the Alamosa NWR and is usually staffed daily. At Monte Vista NWR, the visitor contact station is only open seasonally and operated by the Friends of the San Luis Valley National Wildlife Refuges or by volunteers. Self-guided auto-tour routes with interpretive signs are available to visitors on both Refuges. Additionally, on the Alamosa NWR, there is a drive to the panoramic “Bluff Overlook” which affords a magnificent view of Refuge wetlands, the Rio Grande, and the Sangre de Cristo mountains to the east.

Environmental Education: Volunteer and/or contractor led environmental education programs for local schools are provided, both as Refuge field trips and classroom presentations.

Universal Access and Design: Although efforts have been undertaken to make the Refuges accessible to all users, the Refuges are still short of this goal. Accessibility issues and needs will be addressed on a project-by-project basis as funding allows.

Cultural Resources: Humans have used the land we now call Alamosa and Monte Vista National Wildlife Refuges for approximately 11,000 years. Fourteen documented prehistoric and historic archaeological sites occur on Monte Vista NWR and eleven on Alamosa NWR. All but four sites (three on Monte Vista and one on Alamosa) have been determined as non-eligible for nomination to the National Register of Historic Places. The remaining four sites require further investigation and data collection before eligibility can be determined. These sites are being protected in accordance with the National Historic Preservation Act of 1996. Extensive archaeological sites exist in the headwaters of Spring Creek on Monte Vista Refuge and along Hansen's Bluff on Alamosa Refuge.

Elk Management: Elk on the Refuge present several problems: Elk trails and bedding areas have an impact on vegetation that could be used, or is being used, by ground-nesting birds; although the elk are easily seen from roads, they are very difficult to harvest in a safe manner; they damage fences and take livestock forage on neighboring, private lands; their movement onto and off the Refuge have resulted in collisions with vehicles on the adjacent public highways.

Current elk management, through a managed public hunt, is conducted in accordance with Colorado Division of Wildlife regulations. Hunts are generally initiated once transient elk numbers exceed 100 on the west end of Monte Vista NWR. The hunts are conducted from August 15 to February 28 and include only cow elk. Hunters are selected from a list of applicants who have demonstrated a high degree of firearm proficiency and are available on 24 hours notice.

Proposed Alternative

Water Management: Under this Alternative, Refuge staff would continue to utilize surface and well water to create wetland habitat on both Refuges as described under the No Action Alternative. Additional efforts would focus on improving efficiency of surface water application, monitoring of water usage, better understanding of water rights, historical processes, subsurface and surface interactions, and improving knowledge of groundwater and its role in maintaining wetlands. Better methods and capabilities for monitoring habitat responses to water application would be developed to facilitate an adaptive habitat management program.

Efforts will be taken to restore meandering streambeds and their associated hydrology and riparian habitats on Refuge lands. Although such actions will not have major impacts on either the unconfined or confined aquifers of the Valley, they can positively impact localized groundwater tables and artesian wells, and increase efficiency of irrigation during the following season.

Under this Alternative, irrigation systems in all Refuge units would be upgraded as funding allows to enact more precise and efficient management of irrigation water. Currently, wetland vegetation is maintained using flood irrigation practices where water is applied at the highest elevation of a unit from a supply ditch or well head and is allowed to flow across the unit to lower elevations.

Rest: Under this Alternative, irrigation systems in all Refuge units would be upgraded as funding allows to enact more precise and efficient management of irrigation water. Currently, wetland vegetation is maintained using flood irrigation practices where water is applied at the highest elevation of a unit from a supply ditch or well head and is allowed to flow across the unit to lower elevations.

Prescribed Burning: In addition to that described under the No Action Alternative, management would implement two new initiatives. First, formation of an interagency fire team would be pursued. This idea has been discussed among the various State and Federal land management agencies, but no action has been taken. This team would be responsible for conducting prescribed burns and suppressing wildfires on member agency lands. Second, Refuge management would pursue the hiring of additional staff to develop a burn monitoring program and detailed burn criteria in an effort to better understand the impacts of prescribed burning and to better implement its use in meeting management objectives.

Prescribed Grazing: Future use of prescribed grazing on the Refuges will be largely dictated by the results of research currently being conducted. In the future, if and when grazing is used, prescriptions will delineate the location of the site to be grazed and specific objectives and purposes of the tool such as to control weeds, increase new growth, and provide a competitive advantage to certain vegetation. This site-by-site evaluation and planning will allow for maximum control and flexibility of this tool as well as ensuring that only delineated sites are affected by the tool and that all factors and interests are considered.

Farming: Under this Alternative, migrating birds would be provided with the same amount of small grain food from crops currently provided. The existing mixed organic/non-organic farming program operated by Refuge staff would be converted to a cooperative farming program. Farming would continue but Refuge staff would only be responsible for irrigation of the crops. The cooperating farmer would continue the crop rotation of two years of small grains followed by two years of alfalfa and then one year fallow. The cooperating farmer would be allowed to keep all or a portion of the alfalfa crop based on yields of the small grain crops.

Refuge staff would also augment the farming program with a moist soil plant management program to diversify the types of feed available to the birds. The farming and moist soil plant programs would be monitored and managed through the adaptive management concept. Research would be encouraged to help identify the amount and kinds of high energy food sources the Refuge could and should be providing for migrating and wintering avian species.

Habitat Protection: Under the proposed Alternative, current support for the Service's Partners for Wildlife program would continue in order to ensure the program's growth and success. The Refuge would also continue to be an active partner in Colorado Wetlands Initiative Legacy project led by the Colorado Division of Wildlife.

Public Use: Under this Alternative, educating the public as to the nature and value of wetlands will focus on contrasting the intensely managed wetlands of Monte Vista NWR with the more natural aspects on the Alamosa NWR wetlands. To assure compliance with public use minimum standards, money will be targeted for projects through RONS and MMS. Currently, funding proposals are developed for projects that will improve the quality of visitor experiences.

Hunting: Current waterfowl and small game hunting would continue to be supported and encouraged. To the extent feasible, the hunting experience would be further tailored to meet the desires of hunters using the Refuges based on periodic questioning of waterfowl hunters and other public input.

Fishing: Same as that described under the No Action Alternative.

Wildlife Observation: Support for the Crane Festival would continue as described under the No Action Alternative. Under this Alternative, on the Monte Vista NWR, public and scientific input would be sought regarding the seasonal expansion of the auto tour route, development of wildlife observation sites at Parker Pond, and development of wildlife observation decks along County Road 3E. Opinion and information would also be sought regarding the development of an observation deck adjacent to the Refuge Headquarters at the Alamosa NWR and near the proposed visitor center and education facility at the Monte Vista NWR.

Wildlife Photography: Same as that described under the No Action Alternative.

Interpretation: A multi-purpose education and visitor center facility on the Monte Vista NWR is the highest educational priority for the Complex. Also under this Alternative, the Refuge staff would implement an interpretation program centered around the cultural resources found on the Complex and around the Valley. Interpretation of past human use would focus on the theme that humans have always, and still depend upon natural resources for survival.

Environmental Education: Environmental education goals and programs would be the same as those under No Action.

Universal Access and Design: Efforts in this area would be the same as that described under the No Action Alternative with a few additional efforts. Developments would include new rest room facilities and wildlife observation blinds and/or platforms. Universally accessible hunting blinds would be built on both Refuges. All of these projects will follow the Americans with Disabilities Accessibility Guidelines.

Cultural Resources: Archaeological work on the Complex will be expanded to include work needed to determine the eligibility of four documented sites for nomination to the National Register of Historic Places. Management under this Alternative would also include a sample archaeological inventory of Refuge lands over a 15-year period.

Elk Management: Under this Alternative, the resident elk would be managed to discourage their use of Monte Vista NWR in large numbers with the intent to prevent habitat degradation.

Dated: November 25, 2002.
John A. Blankenship,
Acting Regional Director, Region 6, Denver, Colorado.

[FR Doc. 03-7453 Filed 3-27-03; 8:45 am]

BILLING CODE 4310-55-P